ENVIRONMENTAL PROTECTION AGENCY

40 CFR Part 52

[EPA-R02-OAR-2011-0607, FRL-9450-9]

Approval and Promulgation of Air Quality Implementation Plans; State of New Jersey; Regional Haze State Implementation Plan

AGENCY: Environmental Protection Agency (EPA).

ACTION: Proposed rule.

SUMMARY: EPA is proposing to approve the revision to the State Implementation Plan submitted by the State of New Jersey on July 28, 2009, and supplemented on December 9, 2010, and March 2, 2011, that addresses regional haze for the first planning period from 2008 through 2018. This revision addresses the requirements of the Clean Air Act and EPA's rules that require states to prevent any future, and remedy any existing, anthropogenic impairment of visibility in mandatory Class I areas caused by emissions of air pollutants located over a wide geographic area (also referred to as the “regional haze program”). States are required to assure reasonable progress toward the national goal of achieving natural visibility conditions in Class I areas. This plan protects and improves visibility levels in New Jersey's Class I area, the Brigantine Wilderness Area of the Edwin B. Forsythe National Wildlife Refuge, as well as other Class I areas in the Northeast United States. New Jersey's SIP is in two parts: Reasonable Progress and application of Best Available Retrofit Control Technology. EPA is proposing to approve the Reasonable Progress portion of the plan, since New Jersey has adopted all of the reasonably available measures recommended by the states during the development of the SIP. EPA is proposing approval of New Jersey's plans to implement Best Available Retrofit Technologies on eligible sources, as well New Jersey's Subchapter 9, Sulfur in Fuels.

DATES: Comments must be received on or before September 12, 2011.

ADDRESSES: Submit your comments, identified by Docket Number EPA-R02-OAR-2011-0607, by one of the following methods:

• http://www.regulations.gov: Follow the on-line instructions for submitting comments.

• E-mail: Werner.Raymond@epa.gov.

• Fax: 212-637-3901.

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket No. EPA-R02-OAR-2011-0607. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters or any form of encryption, and be free of any defects or viruses. For additional information about EPA's public docket visit the EPA Docket Center homepage at http://www.epa.gov/air/docket.html.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 2 Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Robert F. Kelly, State Implementation Planning Section, Air Programs Branch, EPA Region 2, 290 Broadway, New York, New York 10007-1866. The telephone number is (212) 637-4049. Mr. Kelly can also be reached via electronic mail at kelly.bob@epa.gov.

SUPPLEMENTARY INFORMATION:

Table of Contents

I. What action is EPA proposing?

II. What is the background for EPA's proposed action?

III. What are the requirements for the Regional Haze SIPs?

A. The Act and the Regional Haze Rule

B. Determination of Baseline, Natural, and Current Visibility Conditions

C. Determination of Reasonable Progress Goals

D. Best Available Retrofit Control Technology

E. Long-Term Strategy

F. Coordinating Regional Haze and Reasonably Attributable Visibility Impairment

G. Monitoring Strategy and Other Implementation Plan Requirements

H. Consultation With States and Federal Land Managers

IV. What is EPA's analysis of New Jersey's regional haze submittal?

A. Affected Class I Areas

B. Long-Term Strategy/Strategies

1. Emissions Inventory for 2018 With Federal and State Control Requirements

2. Modeling to Support the Long-Term Strategy and Determine Visibility Improvement for Uniform Rate of Progress

3. Relative Contributions to Visibility Impairment

4. Reasonable Progress Goals

5. Subchapter 9—Sulfur In Fuels

6. Best Available Retrofit Control Technology

a. BART-Eligible Sources in New Jersey

b. Identification and Evaluation of Additional BART-Eligible Sources in New Jersey

c. BART Evaluations for Sources Identified as BART by New Jersey

C. Consultation With States and Federal Land Managers

D. Periodic SIP revisions and Five-Year Progress Reports

E. Coordinating Regional Haze and Reasonably Attributable Visibility Impairment

F. Monitoring Strategy and Other Implementation Plan Requirements

V. What action is EPA proposing to take?

VI. Statutory and Executive Order Reviews

Throughout this document, wherever “Agency,” “we,” “us,” or “our” is used, we mean the EPA.

I. What action is EPA proposing?

EPA is proposing to approve the State of New Jersey's (New Jersey's) July 28, 2009 State Implementation Plan (SIP) revision addressing regional haze under the Clean Air Act (CAA or the Act) sections 301(a) and 110(k)(3). New Jersey's Regional Haze SIP revision implements all measures determined by the State to be reasonable and addresses New Jersey's Reasonable Progress Goals (RPG), as required by the Act. RPGs are interim visibility goals towards meeting the national visibility goal. New Jersey's Regional Haze SIP revision also implements Best Available Retrofit Control Technology (BART) on eligible facilities subject to the regional haze program.

Consistent with EPA guidance and regulations, (see 70 FR 39104, 39106 (July 6, 2005)), many states relied on EPA's Clean Air Interstate Rule (CAIR) to satisfy key elements of Regional Haze SIPs. The D.C. Circuit, however, found CAIR to be inconsistent with the requirements of the Act and remanded the rule to the Agency. North Carolina v. EPA, 531 F.3d 896, 929-30 (D.C. Cir. 2008); modified on rehearing, North Carolina v. EPA, 550 F.3d 1176, 1178 (D.C. Cir. 2008). In response to the remand of the CAIR rule, on July 6, 2011 EPA finalized the Cross-State Air Pollution Rule (CSAPR); a rule intended to reduce the interstate transport of fine particulate matter and ozone, located at http://www.epa.gov/crossstaterule.

Although New Jersey was subject to CAIR, its Regional Haze SIP did not rely on CAIR to meet the requirements for BART or for attaining the in-state emissions reductions necessary to ensure reasonable progress, instead, New Jersey evaluated controls for its potential BART sources. New Jersey made BART determinations for its BART-eligible sources, including Electric Generating Units (EGUs) that might have been controlled under CAIR. Similarly, its long-term strategy for attaining the RPG at the Brigantine Wilderness Area of the Edwin B. Forsythe National Wildlife Refuge (Brigantine) includes controls on EGUs in New Jersey. Therefore, the remand of CAIR has no negative effect on the amount of emission reductions New Jersey will achieve from its Regional Haze SIP revision. This action and the accompanying Technical Support Document (TSD) explain the basis for EPA's proposed approval of New Jersey's Regional Haze SIP revision proposal.

New Jersey has met all of its obligations with respect to the Regional Haze SIP requirements, including the recommendation¹ of the Mid-Atlantic/Northeast Visibility Union (MANE-VU) regional planning organization. New Jersey should not be required to substitute for any emissions shortfalls in other states' plans, especially if other states expected that EPA's CAIR program would be available as part of their RPGs or their BART controls. Therefore, EPA proposes to approve New Jersey's Regional Haze SIP revision, since it adopts all the measures determined to be reasonable by New Jersey, as evaluated by the states working together through MANE-VU.

¹ On June 20, 2007, MANE-VU adopted two documents which provide the technical basis for consultation among the interested parties and define the basic strategies for controlling pollutants that cause visibility impairment at Class I areas in the eastern United States. The documents, entitled “Statement of the Mid-Atlantic/Northeast Visibility Union (MANE-VU) Concerning a Course of Action within MANE-VU toward Assuring Reasonable Progress,” and “Statement of the Mid-Atlantic/Northeast Visibility Union (MANE-VU) Concerning a Request for a Course of Action by States outside of MANE-VU toward Assuring Reasonable Progress” are together known as the MANE-VU “Ask.”

II. What is the background for EPA's proposed action?

Regional haze is visibility impairment that is produced by many sources and activities which are located across a broad geographic area and emit fine particles and their precursors (e.g., sulfur dioxide, nitrogen oxides, and in some cases, ammonia and volatile organic compounds). Fine particle precursors react in the atmosphere to form fine particulate matter (PM2.5) (e.g., sulfates, nitrates, organic carbon, elemental carbon, and soil dust), which also impairs visibility by scattering and absorbing light. Visibility impairment reduces the clarity, color, and visible distance that one can see. Visibility impairment caused by air pollution occurs virtually all the time at most national parks and wilderness areas, many of which are also referred to as Federal Class I areas.

In the 1977 Amendments to the CAA, Congress initiated a program for protecting visibility in the nation's national parks and wilderness areas. Section 169A(a)(1) of the Act establishes as a national goal the “prevention of any future, and the remedying of any existing, impairment of visibility in mandatory Class I Federal areas which impairment results from manmade air pollution.” In 1990 Congress added section 169B to the Act to address regional haze issues. On July 1, 1999 EPA promulgated the Regional Haze Rule (RHR) (64 FR 35713). The requirement to submit a Regional Haze SIP applies to New Jersey and all 50 states, the District of Columbia and the Virgin Islands. 40 CFR 51.308(b) of the RHR required states to submit the first implementation plan addressing regional haze visibility impairment no later than December 17, 2007.

On January 15, 2009, EPA issued a finding that New Jersey failed to submit the Regional Haze SIP. New Jersey subsequently submitted its Regional Haze SIP on July 28, 2009. EPA's January 15, 2009 finding established a two-year deadline of January 15, 2011 for EPA to either approve New Jersey's Regional Haze SIP, or adopt a Federal implementation plan. This proposed action is intended to address the January 15, 2009 finding.

Because the pollutants that lead to regional haze can originate from sources located across broad geographic areas, EPA has encouraged the states and tribes across the United States to address visibility impairment from a regional perspective. Five regional planning organizations (RPOs) were developed to address regional haze and related issues. New Jersey participates in the MANE-VU RPO, which also includes the state and tribal governments of Connecticut, Delaware, District of Columbia, Maine, Maryland, Massachusetts, New Hampshire, New York, Pennsylvania, Rhode Island, Vermont, the Penobscot Nation, and the St. Regis Mohawk Tribe.

III. What are the requirements for Regional Haze SIPs?

The following is a basic explanation of the RHR. See 40 CFR 51.308 for a complete listing of the regulations under which this SIP revision was evaluated.

A. The Act and the Regional Haze Rule (RHR)

Regional haze SIPs must assure reasonable progress towards the national goal of achieving natural visibility conditions in Class I areas. Section 169A of the Act and EPA's implementing regulations require states to establish long-term strategies for making reasonable progress toward meeting this goal. Implementation plans must also give specific attention to certain stationary sources that were in existence on August 7, 1977, but were not in operation before August 7, 1962, and require these sources, where appropriate, to install BART controls for the purpose of eliminating or reducing visibility impairment. The specific regional haze SIP requirements are discussed in further detail below.

B. Determination of Baseline, Natural, and Current Visibility Conditions

The RHR establishes the deciview (dv) as the principal metric for measuring visibility. This visibility metric expresses uniform changes in haziness in terms of common increments across the entire range of visibility conditions, from pristine to extremely hazy conditions. Visibility is determined by measuring the visual range, which is the greatest distance, in kilometers or miles, at which a dark object can be viewed against the sky. The dv is calculated from visibility measurements. Each dv change is an equal incremental change in visibility perceived by the human eye. For this reason, EPA believes it is a useful measure for tracking progress in improving visibility. Most people can detect a change in visibility at one dv.²

² The preamble to the RHR provides additional details about the deciview (64 FR 35714, 35725 (July 1, 1999)).

The dv is used in expressing RPGs (which are interim visibility goals towards meeting the national visibility goal), defining baseline, current, and natural conditions, and tracking changes in visibility. The regional haze SIPs must contain measures that ensure “reasonable progress” toward the national goal of preventing and remedying visibility impairment in Class I areas caused by manmade air pollution by reducing anthropogenic emissions that cause regional haze. The national goal is a return to natural conditions, i.e., manmade sources of air pollution would no longer impair visibility in Class I areas.

To track changes in visibility over time at each of the 156 Class I areas covered by the visibility program (40 CFR 81.401-437) and as part of the process for determining reasonable progress, the RHR requires states to calculate the degree of existing visibility impairment at each Class I area at the time of each regional haze SIP submittal and periodically review progress every five years midway through each 10-year planning period. To do this, the RHR requires states to determine the degree of impairment (in dv) for the average of the 20 percent least impaired (“best”) and 20 percent most impaired (“worst”) visibility days over a specified time period at each of their Class I areas. In addition, the RHR requires states to develop an estimate of natural visibility conditions for the purposes of comparing progress toward the national goal. Natural visibility is determined by estimating the natural concentrations of pollutants that cause visibility impairment and then calculating total light extinction based on those estimates. EPA has provided guidance to states regarding how to calculate baseline, natural and current visibility conditions.³

³ Guidance for Estimating Natural Visibility conditions under the Regional Haze Rule, September 2003, (EPA-454/B-03-005 located at http://www.epa.gov/ttncaaa1/t1/memoranda/rh_envcurhr_gd.pdf), (hereinafter referred to as “EPA's 2003 Natural Visibility Guidance”), and Guidance for Tracking Progress Under the Regional Haze Rule (EPA-454/B-03-004 September 2003 located at http://www.epa.gov/ttncaaa1/t1/memoranda/rh_tpurhr_gd.pdf)), (hereinafter referred to as “EPA's 2003 Tracking Progress Guidance”).

For the initial regional haze SIPs that were due by December 17, 2007, baseline visibility conditions were used as the starting points for assessing current visibility impairment. Baseline visibility conditions represent the degree of impairment for the 20 percent least impaired days and 20 percent most impaired days at the time the regional haze program was established. Using monitoring data for 2000 through 2004, the RHR required states to calculate the average degree of visibility impairment for each Class I area, based on the average of annual values over the five year period. The comparison of initial baseline visibility conditions to natural visibility conditions indicates the amount of improvement necessary to attain natural visibility, while the future comparison of baseline conditions to the then current conditions will indicate the amount of progress made. In general, the 2000-2004 baseline period is considered the time from which improvement in visibility is measured.

C. Determination of Reasonable Progress Goals (RPGs)

The submission of a series of regional haze SIPs from the states that establish RPGs for Class I areas for each (approximately) 10-year planning period is the vehicle for ensuring continuing progress towards achieving the natural visibility goal. The RHR does not mandate specific milestones or rates of progress, but instead calls for states to establish goals that provide for “reasonable progress” toward achieving natural (i.e., “background”) visibility conditions. In setting RPGs, states must provide for an improvement in visibility for the most impaired days over the (approximately) 10-year period of the SIP, and ensure no degradation in visibility for the least impaired days over the same period.

States have significant discretion in establishing RPGs, but are required to consider the following factors established in the Act and in EPA's RHR: (1) The costs of compliance; (2) the time necessary for compliance; (3) the energy and non-air quality environmental impacts of compliance; and (4) the remaining useful life of any potentially affected sources. States must demonstrate in their SIPs how these factors are considered when selecting the RPGs for the best and worst days for each applicable Class I area. (See 40 CFR 51.308(d)(1)(i)(A)). States have considerable flexibility in how they take these factors into consideration, as noted in our Reasonable Progress guidance.⁴ In setting the RPGs, states must also consider the rate of progress needed to reach natural visibility conditions by 2064 (referred to as the “uniform rate of progress” or the “glidepath”) and the emission reduction measures needed to achieve that rate of progress over the 10-year period of the SIP. In setting RPGs, each state with one or more Class I areas (“Class I State”) must also consult with potentially “contributing states,” i.e., other nearby states with emission sources that may be affecting visibility impairment at the Class I State's areas. (40 CFR 51.308(d)(1)(iv)).

⁴ Guidance for Setting Reasonable Progress Goals under the Regional Haze Program, (“EPA's Reasonable Progress Guidance”), July 1, 2007, memorandum from William L. Wehrum, Acting Assistant Administrator for Air and Radiation, to EPA Regional Administrators, EPA Regions 1-10 (pp.4-2, 5-1).

D. Best Available Retrofit Control Technology (BART)

Section 169A of the Act directs states to evaluate the use of retrofit controls at certain larger, often uncontrolled, older stationary sources in order to address visibility impacts from these sources. Specifically, the Act requires states to revise their SIPs to contain such measures as may be necessary to make reasonable progress towards the natural visibility goal, including a requirement that certain categories of existing stationary sources ⁵ built between 1962 and 1977 procure, install, and operate the “Best Available Retrofit Control Technology (BART)” as determined by the state. (CAA 169A(b)(2)(A)). States are directed to conduct BART determinations for such sources that may be anticipated to cause or contribute to any visibility impairment in a Class I area. Rather than requiring source-specific BART controls, states also have the flexibility to adopt an emissions trading program or other alternative program as long as the alternative provides equal or greater reasonable progress towards improving visibility than BART.

⁵ The set of “major stationary sources” potentially subject to BART are listed in CAA section 169A(g)(7).

On July 6, 2005, EPA published the Guidelines for BART Determinations Under the Regional Haze Rule at Appendix Y to 40 CFR part 51 (hereinafter referred to as the “BART Guidelines”) to assist states in determining which of their sources should be subject to the BART requirements and in determining appropriate emission limits for each applicable source. The BART Guidelines require states to use the approach set forth in the BART Guidelines in making a BART applicability determination for a fossil fuel-fired electric generating plant with a total generating capacity in excess of 750 megawatts. The BART Guidelines encourage, but do not require states to follow the BART Guidelines in making BART determinations for other types of sources.

The BART Guidelines recommend that states address all visibility impairing pollutants emitted by a source in the BART determination process. The most significant visibility impairing pollutants are sulfur dioxide (SO2), nitrogen oxides (NOX), and PM. The BART Guidelines direct states to use their best judgment in determining whether volatile organic compounds (VOCs), or ammonia (NH3) and ammonia compounds impair visibility in Class I areas.

In their SIPs, states must identify potential BART sources, described as “BART-eligible sources” in the RHR, and document their BART control determination analyses. In making BART determinations, section 169A(g)(2) of the CAA requires that states consider the following factors: (1) The costs of compliance, (2) the energy and non-air quality environmental impacts of compliance, (3) any existing pollution control technology in use at the source, (4) the remaining useful life of the source, and (5) the degree of improvement in visibility which may reasonably be anticipated to result from the use of such technology. States are free to determine the weight and significance to be assigned to each factor. (70 FR 39170, (July 6, 2005)).

A regional haze SIP must include source-specific BART emission limits and compliance schedules for each source subject to BART. Once a state has made its BART determination, the BART controls must be installed and in operation as expeditiously as practicable, but no later than five years after the date of EPA approval of the regional haze SIP, as required in the Act (section 169A(g)(4)) and in the RHR (40 CFR 51.308(e)(1)(iv)). In addition to what is required by the RHR, general SIP requirements mandate that the SIP must also include all regulatory requirements related to monitoring, recordkeeping, and reporting for the BART controls on the source. States have the flexibility to choose the type of control measures they will use to meet the requirements of BART.

E. Long-Term Strategy (LTS)

Consistent with the requirement in section 169A(b) of the Act that states include in their regional haze SIP a 10 to 15 year strategy for making reasonable progress, section 51.308(d)(3) of the RHR requires that states include a Long-Term Strategy (LTS) in their SIPs. The LTS is the compilation of all control measures a state will use to meet any applicable RPGs. The LTS must include “enforceable emissions limitations, compliance schedules, and other measures as necessary to achieve the reasonable progress goals” for all Class I areas within, or affected by emissions from, the state. (40 CFR 51.308(d)(3)).

When a state's emissions are reasonably anticipated to cause or contribute to visibility impairment in a Class I area located in another state, the RHR requires the impacted state to coordinate with the contributing states in order to develop coordinated emissions management strategies. (40 CFR 51.308(d)(3)(i)). In such cases, the contributing state must demonstrate that it has included in its SIP all measures necessary to obtain its share of the emission reductions needed to meet the RPGs for the Class I area. The RPOs have provided forums for significant interstate consultation, but additional consultations between states may be required to sufficiently address interstate visibility issues. This is especially true where two states belong to different RPOs.

States should consider all types of anthropogenic sources of visibility impairment in developing their LTS, including stationary, minor, mobile, and area sources. At a minimum, states must describe how each of the seven factors listed below is taken into account in developing their LTS: (1) Emission reductions due to ongoing air pollution control programs, including measures to address Reasonably Attributable Visibility Impairment (RAVI); (2) measures to mitigate the impacts of construction activities; (3) emissions limitations and schedules for compliance to achieve the RPG; (4) source retirement and replacement schedules; (5) smoke management techniques for agricultural and forestry management purposes including plans as currently exist within the state for these purposes; (6) enforceability of emissions limitations and control measures; (7) the anticipated net effect on visibility due to projected changes in point, area, and mobile source emissions over the period addressed by the LTS. (40 CFR 51.308(d)(3)(v)).

F. Coordinating Regional Haze and Reasonably Attributable Visibility Impairment (RAVI)

As part of the RHR, EPA revised 40 CFR 51.306(c) regarding the LTS for RAVI to require that the RAVI plan must provide for a periodic review and SIP revision not less frequently than every three years until the date of submission of the state's first plan addressing regional haze visibility impairment, which was due December 17, 2007, in accordance with 51.308(b) and (c). On or before this date, the state must revise its plan to provide for review and revision of a coordinated LTS for addressing reasonably attributable and regional haze visibility impairment, and the state must submit the first such coordinated LTS with its first regional haze SIP revision. Future coordinated LTS's, and periodic progress reports evaluating progress towards RPGs, must be submitted consistent with the schedule for SIP submission and periodic progress reports set forth in 40 CFR 51.308(f) and 51.308(g), respectively. The periodic reviews of a state's LTS must report on both regional haze and RAVI impairment and must be submitted to EPA as a SIP revision, in accordance with 51.308.

G. Monitoring Strategy and Other Implementation Plan Requirements

Section 51.308(d)(4) of the RHR includes the requirement for a monitoring strategy for measuring, characterizing, and reporting of regional haze visibility impairment that is representative of all mandatory Class I Federal areas within the state. The strategy must be coordinated with the monitoring strategy required in section 51.305 for RAVI. Compliance with this requirement may be met through participation in the Interagency Monitoring of Protected Visual Environment (IMPROVE) network. The monitoring strategy is due with the first regional haze SIP, and it must be reviewed every five years.

H. Consultation With States and Federal Land Managers (FLMs)

The RHR requires that states consult with FLMs before adopting and submitting their SIPs. (40 CFR 51.308(i)). States must provide FLMs an opportunity for consultation, in person and at least 60 days prior to holding any public hearing on the SIP. This consultation must include the opportunity for the FLMs to discuss their assessment of impairment of visibility in any Class I area and to offer recommendations on the development of the RPGs and on the development and implementation of strategies to address visibility impairment. Further, a state must include in its SIP a description of how it addressed any comments provided by the FLMs. Finally, a SIP must provide procedures for continuing consultation between the state and FLMs regarding the state's visibility protection program, including development and review of SIP revisions, five-year progress reports, and the implementation of other programs having the potential to contribute to impairment of visibility in Class I areas.

IV. What is EPA's analysis of New Jersey's regional haze submittal?

On July 28, 2009 the State of New Jersey submitted a revision to the New Jersey SIP to address regional haze in the State's Class I Brigantine Wilderness Area as required by EPA's RHR.

A. Affected Class I Areas

New Jersey contains a Class I area, the Brigantine National Wildlife Refuge, where visual impairment that the FLMs have identified as an important value that must be addressed in regional haze plans. Emissions from New Jersey also influence the amount of visibility impairment of Class I areas located in Maine, New Hampshire, and Vermont. New Jersey's Regional Haze SIP will help to improve visibility in these states. Thus, New Jersey is responsible for developing a Regional Haze SIP that addresses its own and other Class I areas, that describes its long-term emission strategy, its role in the consultation processes, and how its SIP meets the other requirements in EPA's regional haze regulations. Because New Jersey is home to a Class I area, New Jersey has the additional responsibility to address the following Regional Haze SIP elements: (a) Calculation of baseline and natural visibility conditions, (b) establishment of RPGs, (c) monitoring requirements, and (d) RAVI requirements as required by EPA's RHR.

B. Long-Term Strategy/Strategies (LTS)

As described above, the Long Term Strategy (LTS) is a compilation of state-specific control measures relied on by the state to obtain its share of emission reductions to support the RPGs for the Brigantine National Wildlife Refuge. New Jersey's LTS for the first implementation period, addresses the emissions reductions from Federal, state, and local controls that take effect in the State from the baseline period starting in 2002 until 2018. New Jersey participated in the MANE-VU RPO regional strategy development process. As a participant, New Jersey supported a regional approach towards deciding which control measures to pursue for regional haze, which was based on technical analyses documented in the following reports: (a) Contributions to Regional Haze in the Northeast and Mid-Atlantic United States ⁶; (b) Assessment of Reasonable Progress for Regional Haze in MANE-VU Class I Areas ⁷; (c) Five-Factor Analysis of BART-Eligible Sources: Survey of Options for Conducting BART Determinations ⁸; and (d) Assessment of Control Technology Options for BART-Eligible Sources: Steam Electric Boilers, Industrial Boilers, Cement Plants and Paper, and Pulp Facilities.⁹

⁶ NESCAUM Report at http://www.nescaum.org/documents/contributions-to-regional-haze-in-the-northeast-and-mid-atlantic—united-states/.

⁷ MANE-VU Report at http://www.otcair.org/manevu/Document.asp?fview=Reports.

⁸ NESCAUM Report at http://www.nescaum.org/documents/bart-final-memo-06-28-07.pdf/.

⁹ NESCAUM Report at http://www.nescaum.org/documents/bart-control-assessment.pdf/.

The LTS was developed by New Jersey, in coordination with MANE-VU, identifying the emissions units within New Jersey that likely have the largest impacts currently on visibility at the Brigantine National Wildlife Refuge Class I area, estimating emissions reductions for 2018, based on all controls required under Federal and state regulations for the 2002-2018 period (including BART), and comparing projected visibility improvement with the uniform rate of progress for the Brigantine National Wildlife Refuge Class I area.

New Jersey's LTS includes measures needed to achieve its share of emissions reductions and includes enforceable emissions limitations, compliance schedules, and other measures necessary to achieve the reasonable progress goals established for the Brigantine National Wildlife Refuge Class I area.

1. Emissions Inventory for 2018 With Federal and State Control Requirements

The emissions inventory used in the regional haze technical analyses was developed by the Mid-Atlantic Regional Air Management Association for MANE-VU with assistance from New Jersey. The 2018 emissions inventory was developed by projecting 2002 emissions, and assuming emissions growth due to projected increases in economic activity as well as applying reductions expected from Federal and state regulations affecting the emissions of VOC and the visibility-impairing pollutants NOX, PM10, PM2.5, and SO2. The BART guidelines direct states to exercise judgment in deciding whether VOC and NH3 impair visibility in their Class I area(s). As discussed further below, MANE-VU demonstrated that anthropogenic emissions of sulfates are the major contributor to PM2.5 mass and visibility impairment at Class I areas in the Northeast and Mid-Atlantic region. It was also determined that the total ammonia emissions in the MANE-VU region are extremely small. In addition, since VOC emissions are aggressively controlled through the New Jersey ozone SIP, the pollutants New Jersey considered under BART are NOX, PM10, PM2.5, and SO2.

In developing the 2018 reasonable progress goal, and the 2018 projection inventory, New Jersey relied primarily upon the information and analyses developed by MANE-VU to meet the requirements of EPA's regional haze rules. Based on information from the contribution assessment and additional emission inventory analyses, MANE-VU identified the following source categories for further examination for reasonable measures:

• Coal and oil-fired EGUs;

• Point and area source industrial, commercial and institutional (ICI) boilers;

• Cement and Lime Kilns;

• Heating oil; and

• Residential wood combustion.

MANE-VU, for its member states and tribes, analyzed these potential source categories based on the four factors listed in section 169A(g)(1) of the Act and in Section III.C of this action. New Jersey and the MANE-VU states agreed with the analysis that determined that reasonable controls existed for coal and oil-fired EGUs, industrial, commercial and institutional (ICI) boilers and that reducing the sulfur content of heating oil was a reasonable strategy. Additionally, MANE-VU determined that due to the lack of specific data for the wide range of residential wood boilers, it was not reasonable to set particular reductions amounts for emissions from residential wood boilers.

New Jersey adopted controls on EGUs and boilers. While New Jersey's plan does not include emission reduction regulations for residential wood boilers, New Jersey will consider state specific wood burning provisions, which was the strategy agreed to by the MANE-VU states. ICI boiler controls were implemented as an Ozone Transport Commission (OTC) regional measure for VOC and NOX controls that have benefits for reducing regional haze. New Jersey does not have any cement or lime kilns. More details on the adopted controls are described later in this section.

After identifying potential control measures and performing the four factor analysis, MANE-VU performed initial modeling that showed the visibility impacts from the implementation of the measures. The initial modeling results showed that the projected 2018 visibility on the 20% worst days at the Brigantine Wilderness area was at least as good at the uniform rate of progress. Details of MANE-VU's initial modeling were later documented in the MANE-VU Modeling for RPGs report.¹⁰ Based on the modeling results and other analysis performed by MANE-VU, the MANE-VU states developed “Asks,” which are “emission management” strategies. These strategies served as the basis for the consultation with the other states.

¹⁰ MANE-VU Modeling for Reasonable Progress Goals. February 7, 2008.

As part of the modeling needed to assess the emission reductions needed to meet the RPG, MANE-VU developed emissions inventories for four inventory source classifications: (1) Stationary point sources, (2) area sources, (3) off-road mobile sources, and (4) on-road mobile sources. The New York State Department of Environmental Conservation also developed an inventory of biogenic emissions for the entire MANE-VU region. Stationary point emission sources are those sources that emit greater than a specified tonnage per year, depending on the pollutant, with data provided at the facility level. Area source emissions are from stationary sources whose individual emissions are relatively small, but due to the large number of these sources, the collective emissions from the source category could be significant. Off-road mobile source emissions are from equipment that can move but do not use the roadways. On-road mobile source emissions are from automobiles, trucks, and motorcycles that use the roadway system. The emissions from these sources are estimated by vehicle type and road type. Biogenic sources emissions are from natural sources like trees, crops, grasses, and natural decay of plants. Stationary point sources emission data is tracked at the facility level. For all other source types emissions are summed on the county level.

There are many Federal and state control programs being implemented that MANE-VU and New Jersey anticipate will reduce emissions between the baseline period and 2018. Emission reductions from these control programs were projected to achieve substantial visibility improvement by 2018 in the Brigantine National Wildlife Refuge. To assess emissions reductions from ongoing air pollution control programs, BART, and reasonable progress goals; MANE-VU developed 2018 emissions projections called Best and Final. The emissions inventory provided in the Best and Final 2018 projections is based on adopted and enforceable requirements, as well as Federal programs, such as Federal motor vehicle control programs and maximum achievable control technologies (MACT).

These measures are included in the MANE-VU modeling used to determine the amount of progress in the improvement of visibility in Class I areas. MANE-VU States agreed to implement several measures at the state level. These measures are: a timely implementation of BART requirements, 90 percent or more reduction in sulfur dioxide at 167 stacks identified by MANE-VU (or comparable alternative measures), and low sulfur fuel oil regulations (with limits specified for each state).

Controls from various Federal MACT regulations were also utilized in the development of the 2018 emission inventory projections. These MACTs include the industrial boiler/process heater MACT, the combustion turbine and reciprocating internal combustion engines MACTs, and the VOC 2-, 4-, 7-, and 10-year MACT standards.

EPA's industrial boiler/process heater MACT was vacated on June 8, 2007.¹¹ The MANE-VU States, including the State of New Jersey, included these controls in modeling for their regional haze SIPs. EPA accepts these emission reductions in the modeling for the following reasons. EPA expects to propose a new Industrial Boiler MACT rule to address the vacatur in October 2011 and issue a final rule in April 2012, giving New Jersey time to assure the required controls are in place prior to the end of the first planning period in 2018. In the absence of an established MACT for boilers and process heaters, the statutory language in section 112(j) of the Act specifies a schedule for the incorporation of enforceable MACT-equivalent limits into the Title V operating permits of affected sources. Should circumstances warrant the need to enact section 112(j) of the Act for industrial boilers, compliance with case-by-case MACT limits for industrial boilers would occur no later than January 2015, which is well before the 2018 RPGs for regional haze. The RHR also requires that any resulting differences between emissions projections and actual emissions reductions that may occur will be addressed during the five-year review prior to the next regional haze SIP. In addition, the expected reductions due to the original, vacated Industrial Boiler MACT rule were relatively small compared to the State's projected total SO2 emissions in 2018 (i.e., one to two percent of the projected 2018 SOX, PM2.5 and coarse particulate matter (PM10) inventory), and are not likely to affect any of New Jersey's modeling conclusions. Thus, even if there is a need to address discrepancies between the projected emissions reductions from the now vacated Industrial Boiler MACT and actual reductions achieved by the replacement MACT, we do not expect that this would be significant enough to affect the adequacy of the New Jersey Regional Haze SIP.

¹¹ See NRDC v. EPA, 489 F.3d 1250 (D.C. Cir. 2007).

The MANE-VU States' goal was to reduce SO2 emissions from the largest emission units in the eastern United States by 90 percent or if it was infeasible to achieve that level of reduction, an alternative had to be identified that could include other point sources. In New Jersey, there are four of the 167 units identified by MANE-VU as having the highest SO2 emissions in the eastern United States. New Jersey has reduced emissions from these four units at each facility by more than 90 percent, thus meeting and exceeding this portion of the reasonable progress goals.

New Jersey is fulfilling its goal of achieving the emission reductions needed to meet its contribution to the reasonable progress goals projected by the MANE-VU modeling with the following measures: BART controls on all BART-eligible facilities, 90 percent or more control at the four New Jersey units from the 167 EGU units identified by MANE-VU, reductions due to New Jersey's Mercury rule, adoption of performance standards at all coal-fired boilers in New Jersey, adoption of the lower limits on fuel oil and the measures listed in Table 1 developed for other programs that support regional haze emission reduction goals.

Table 1—Additional State Control Measures That Support Regional Haze Goals
Control measures | Status | Notes
Diesel Idling Rule Changes | Rule adopted May 25, 2007 | Direct PM2.5 and NOX reductions.
High Electrical Demand Day units | Rule adopted March 20, 2009 | SO2 and NOX reductions.
Oil and gas Fired Electric Generating Units (EGUs) | Rule adopted March 20, 2009 | NOX reductions.
Sewage Sludge Incinerators | Rule adopted March 20, 2009 | NOX reductions.
Case by Case NOX Emission Limit Determinations (FSELs/AELs) | Rule adopted March 20, 2009 | NOX reductions.
Glass Manufacturing | Rule adopted March 20, 2009 | NOX reductions but most benefits will occur post-2010.
Municipal Waste Combustor (Incinerator) NOX Rule | Rule adopted March 20, 2009 | NOX reductions.
Asphalt Production Plants | Rule adopted March 20, 2009 | NOX reductions.
Diesel Smoke (I/M Cutpoint) Rule Changes | Rule adopted April 3, 2009 | PM2.5 and NOX reductions.
Onroad New Jersey Low Emission Vehicle (LEV) Program | Adopted November 28, 2005 | VOC, NOX, SO2, and direct PM2.5 reductions.
Energy Master Plan | Finalized October 22, 2008.

Federal measures and other control programs relied upon by New Jersey include EPA's NOX SIP Call; measures adopted for New Jersey's 1-hour and 8-hour ozone attainment demonstration SIPs, Federal 2007 heavy duty diesel engine standards for on-road trucks and busses; Federal Tier 2 tailpipe controls for on-road vehicles; Federal large spark ignition and recreational vehicle controls; and EPA's non-road diesel rules. New Jersey also relied on emission reductions from various Federal MACTs that were vacated, but, as described above, EPA expects these rules to be adopted by 2018, and should not negatively affect New Jersey's fulfillment of its commitment to meet the RPGs. In addition, the RHR requires that any resulting differences between emissions projections and actual emissions reductions that may occur will be addressed during the five-year review prior to the next 2018 Regional Haze SIP.

Tables 2 and 3 are summaries of the 2002 baseline and 2018 estimated emissions inventories for New Jersey. The 2018 estimated emissions include emission growth as well as emission reductions due to ongoing emission control strategies to meet RPGs and BART.

These emissions were used in the modeling that demonstrated that the Brigantine Wildlife Refuge Class I area would meet the Reasonable Progress Goal set for 2018. New Jersey adopted the emission reduction programs that are forecast to improve visibility to meet the goal for 2018, thus New Jersey is projected to achieve its goal for the first implementation period.

Table 2—New Jersey/MANE-VU Modeling Inventory Summary, 2002 Base Inventory
| NOX | VOC | CO | NH3 | Primary PM10 | Primary PM2.5 | SO2
Point | 51,593 | 16,547 | 12,301 | 0 | 6,072 | 4,779 | 61,217
Area | 26,692 | 167,883 | 97,657 | 17,572 | 31,664 | 17,044 | 10,744
Non-Road | 63,479 | 83,919 | 704,396 | 43 | 5,501 | 4,997 | 15,686
On-Road | 161,289 | 110,529 | 1,461,653 | 7,316 | 3,785 | 2,529 | 3,627
Total | 303,053 | 378,877 | 2,276,006 | 24,931 | 47,021 | 29,350 | 91,273

Table 3—New Jersey/MANE-VU Modeling Inventory Summary, 2018 Projection Inventory
| NOX | VOC | CO | NH3 | Primary PM10 | Primary PM2.5 | SO2
Point | 31,100 | 20,267 | 19,855 | 564 | 8,969 | 7,745 | 23,421
Area | 21,684 | 134,089 | 83,119 | 21,435 | 31,874 | 15,220 | 1,781
Non-Road | 41,166 | 53,625 | 831,880 | 52 | 3,489 | 3,143 | 832
On-Road | 30,150 | 31,415 | 742,000 | 8,555 | 1,232 | 1,140 | 785
Total | 124,100 | 239,396 | 1,676,854 | 30,606 | 45,564 | 27,247 | 26,819

2. Modeling To Support the LTS and Determine Visibility Improvement for Uniform Rate of Progress

MANE-VU performed modeling for the regional haze LTS for the states, the District of Columbia and tribal nations located in Mid-Atlantic and Northeast portions of the United States. The modeling analysis is a complex technical evaluation that began with selection of the modeling system. MANE-VU used a modeling system described below and discussed in more detail in the TSD.

The EPA's Models-3/Community Multiscale Air Quality (CMAQ) version 4.5.1 is a photochemical grid model capable of addressing ozone, PM, visibility and acid deposition on a regional scale. CMAQ modeling of regional haze in the MANE-VU region for 2002 and 2018 was carried out on a grid of 12x12 kilometer (km) cells that covers the 11 MANE-VU States and the District of Columbia and states adjacent to them. This grid is nested within a larger national CMAQ modeling grid of 36x36 km grid cells that covers the continental United States, portions of Canada and Mexico, and portions of the Atlantic and Pacific Oceans along the east and west coasts. Selection of a representative period of meteorology is crucial for evaluating baseline air quality conditions and projecting future changes in air quality due to changes in emissions of visibility-impairing pollutants. MANE-VU conducted an in-depth analysis that resulted in the selection of the entire year of 2002 (January 1-December 31) as the best period of meteorology available for conducting the CMAQ modeling. The MANE-VU States' modeling was developed consistent with EPA guidance.¹²

¹² EPA's Guidance on the Use of Models and Other Analyses for Demonstrating Attainment of Air Quality Goals for Ozone, PM2.5, and Regional Haze, located at http://www.epa.gov/scram001/guidance/guide/final-03-pm-rh-guidance.pdf, (EPA-454/B-07-002), April 2007, and EPA document, Emissions Inventory Guidance for Implementation of Ozone and Particulate Matter National Ambient Air Quality Standards (NAAQS) and Regional Haze Regulations, located at http://www.epa.gov/ttnchie1/eidocs/eiguid/index.html, EPA-454/R-05-001, August 2005, updated November 2005 (“EPA's Modeling Guidance”).

MANE-VU examined the model performance of the regional modeling for the areas of interest before determining whether the CMAQ model results were suitable for use in the regional haze assessment of the LTS and for use in the modeling assessment. The modeling assessment predicts future levels of emissions and visibility impairment used to support the LTS and to compare predicted, modeled visibility levels with those on the uniform rate of progress. In keeping with the objective of the CMAQ modeling platform, the air quality model performance was evaluated using graphical and statistical assessments based on measured ozone, fine particles, and acid deposition from various monitoring networks and databases for the 2002 base year. MANE-VU used a diverse set of statistical parameters from the EPA's Modeling Guidance to stress and examine the model and modeling inputs. Once MANE-VU determined the model performance to be acceptable, MANE-VU used the model to assess the 2018 RPGs using the current and future year air quality modeling predictions, and compared the RPGs to the uniform rate of progress.

In accordance with 40 CFR 51.308(d)(3), New Jersey provided the supporting documentation for all required analyses used to determine the State's LTS. The technical analyses and modeling used to develop the glide path and to support the LTS are consistent with EPA's RHR, and interim and final EPA Modeling Guidance. EPA accepts the MANE-VU technical modeling to support the LTS and determine visibility improvement for the uniform rate of progress because the modeling system was chosen and used in accordance with EPA Modeling Guidance. EPA agrees with the MANE-VU model performance procedures and results, and that the CMAQ is an appropriate tool for the regional haze assessments for the New Jersey LTS and Regional Haze SIP.

3. Relative Contributions of Pollutants to Visibility Impairment

An important step toward identifying reasonable progress measures is to identify the key pollutants contributing to visibility impairment at each Class I area. To understand the relative benefit of further reducing emissions from different pollutants, MANE-VU developed emission sensitivity model runs using CMAQ to evaluate visibility and air quality impacts from various groups of emissions and pollutant scenarios in the Class I areas on the 20 percent worst visibility days.

MANE-VU's contribution assessment demonstrated that sulfate is the major contributor to PM2.5 mass and visibility impairment at Class I areas in the Northeast and Mid-Atlantic Region. Sulfate particles commonly account for more than 50 percent of particle-related light extinction at northeastern Class I areas on the clearest days and for as much as or more than 80 percent on the haziest days. In particular, for the Brigantine National Wildlife Refuge Class I area, on the 20 percent worst visibility days in 2000-2004, sulfate accounted for 66 percent of the particles responsible for light extinction. After sulfate, organic carbon (OC) consistently accounts for the next largest fraction of light extinction due to particles. Organic carbon accounted for 13 percent of light extinction on the 20 percent worst visibility days for Brigantine, followed by nitrate that accounts for 9 percent of light extinction.

The emissions sensitivity analyses conducted by MANE-VU predict that reductions in SO2 emissions from EGU and non-EGU industrial point sources will result in the greatest improvements in visibility in the Class I areas in the MANE-VU region, more than any other visibility-impairing pollutant. As a result of the dominant role of sulfate in the formation of regional haze in the Northeast and Mid-Atlantic Region, MANE-VU concluded that an effective emissions management approach should rely heavily on broad-based regional SO2 control efforts in the eastern United States. EPA proposes to accept this conclusion as a reasonable strategy in the eastern United States where reductions in SO2 emissions will result in the greatest improvements in visibility.

4. Reasonable Progress Goals

New Jersey contains a Class I area, the Brigantine National Wildlife Refuge Class I area, located on the New Jersey shoreline, north of Atlantic City. The RHR at 40 CFR 51.308(d)(1) requires states to establish RPGs for each Class I area within the state (expressed in deciviews) that provide for reasonable progress towards achieving natural visibility. MANE-VU calculated the RPG for the Class I areas in the MANE-VU states, and the CMAQ projections of the effect of emission reductions on visibility in the target year at the end of the first period, 2018, as shown in Table 4.

Table 4—Reasonable Progress Goals and Projected Future Visibility for the Brigantine Wilderness Area, Developed by MANE-VU
| Baseline visibility (2000-2004) | Natural background conditions for 2064 | Reasonable progress goal for 2018 | 2018 CMAQ projections
20% Worst Days | 29.0 | 12.2 | 25.1 | 25.1
20% Best Days | 14.3 | 5.5 | 14.3 | 12.2
(All values expressed as deciviews—lower deciviews means better visibility.)

From the MANE-VU analysis, New Jersey determined that if the MANE-VU states adopted certain measures, and states in the surrounding regions adopted similar measures, the Class I areas would meet the RPG for the first progress period ending in 2018. These measures for the MANE-VU states are: Implementation of BART requirements, a 90 percent reduction in SO2 emissions from 167 EGU emission points (or equivalent emission reduction) and a low sulfur fuel oil strategy. New Jersey adopted regulations sufficient to meet its contribution to the reduction of emissions needed to provide reasonable progress towards achieving natural visibility: A 90 percent or greater reduction in SO2 emissions from each of the four EGU stacks located in New Jersey, adoption of a low sulfur fuel oil strategy, implementation of BART requirements during the first progress period, as well as continued evaluation of other control measures to reduce SO2 and NOX emissions.

The MANE-VU states' goal was to reduce SO2 emissions from the highest emission stacks in the eastern United States by 90 percent or, if it was infeasible to achieve that level of reduction, an alternative had to be identified that could include other point sources. In New Jersey, there are four of the 167 units identified by MANE-VU as having the highest emissions in the eastern United States. New Jersey has reduced emissions from these sources at each facility by more than 90 percent, thus meeting this portion of the reasonable progress measures.

The modeling predicted that these emission control regulations would result in better visibility which would meet the 25.1 deciviews goal of reasonable progress by 2018 for the Brigantine Class I area. At the time of MANE-VU modeling, some of the other states with sources potentially impacting visibility, in the Class I areas in both New Jersey and the rest of the MANE-VU domain, had not yet made final control determinations for BART, and thus, these controls are not included in the modeling prepared by MANE-VU and used by New Jersey. At that time, not all of the emission reductions from New Jersey's BART-eligible sources were included in the modeling. Any controls resulting from those determinations will provide additional emissions reductions and resulting visibility improvement, which give further assurances that New Jersey accomplished its share of emission reductions needed to RPGs at all Class I areas affected by New Jersey's emissions. This modeling demonstrates that the 2018 base control scenario provides for an improvement in visibility equal to the uniform rate of progress for the Brigantine area Class I areas for the most impaired days over the period of the implementation plan and ensures no degradation in visibility for the least impaired days over the same period.

The modeling supporting the analysis of these RPGs is consistent with EPA guidance prior to the CAIR remand. The regional haze provisions specify that a state may not adopt a RPG that represents less visibility improvement than is expected to result from other CAA requirements during the implementation period. 40 CFR 51.308(d)(1)(vi). Therefore, the CAIR states with Class I areas, like New Jersey, took into account emission reductions anticipated from CAIR in determining their 2018 RPGs. MANE-VU approximated the impact of CAIR by reducing emissions from 167 EGUs by ninety percent. But this reduction was larger, in total tons of emissions reduced, than the reductions expected from CAIR, so MANE-VU added emissions across the modeling domain to more closely approximate the emission reductions from CAIR. This way, MANE-VU States would not overestimate the RPG in case states used the CAIR program as their response to MANE-VU's “ask” of ninety percent reductions from the 167 EGUs in the eastern United States.

As discussed in Section I of this action, EPA anticipates that the CSAPR will result in similar or better improvements in visibility than those predicted from CAIR. Because the CSAPR was recently finalized, EPA does not know at this time how it will affect any individual Class I area and cannot accurately model future conditions based on its implementation. However, by the time New Jersey is required to undertake its five year progress review, it is likely that the impact of the CSAPR's contribution to visibility impairment in Class I areas in New Jersey and other states will be meaningfully assessed. Since New Jersey implemented greater than ninety percent control at each of its EGUs that would have been subject to CAIR, which would exceed the emission reductions in New Jersey under CAIR or the CSAPR, it is likely that New Jersey will have contributed its share of reductions that were modeled to produce the RPG at New Jersey's Class I area and other Class I areas impacted by New Jersey. If, for a particular Class I areas, these reductions do not provide similar or greater benefits than CAIR and meeting the RPGs at one of its Class I areas is in jeopardy, the State will be required to address this circumstance in its five year review.

The RPG for the Class I area in New Jersey (and other states' Class I areas affected by New Jersey) are based on modeled projections of future conditions that were developed using the best available information at the time the analysis was completed. While MANE-VU's emission inventory used for modeling included estimates of future emission growth, projections can change as additional information regarding future conditions becomes available. It would be both impractical and resource-intensive to require a state to continually adjust the RPG every time an event affecting these future projections changed. At the same time, EPA established a requirement for a five-year, midcourse review and, if necessary, correction of the states' regional haze plans. See 40 CFR 52.308(g). New Jersey commits to the midcourse review and submitting revisions to the regional haze plan where necessary.

Altogether, these emission controls—a 90 percent reduction in SO2 emissions from EGUs, emission reductions from boilers and a low sulfur fuel oil strategy—are reasonable measures for the reduction strategy required by EPA's RHR. EPA agrees that, combined with New Jersey's BART program, these reductions will provide the emission reductions New Jersey needs to meet its share of the improvements in visibility needed to meet the RPG goal for Brigantine and to assist visibility improvement at other Class I areas affected by New Jersey's emissions.

In order to address a timely implementation of BART, as described in Section IV.B.6. of this action, New Jersey established BART emissions limits for three facilities: PSEG Hudson Generating Station, Chevron Products and ConocoPhillips Bayway Refinery. For two other facilities, Amerada Hess Port Reading Refinery and Sunoco Eagle Point, New Jersey's analyses determined that their emissions were lower than the 250 tons per year threshold to make them eligible for emission reductions under BART. The BART limitations are already in effect for the BART-affected sources, except for additional controls for nitrogen oxides at the PSEG Hudson Generating Station, which will become effective no later than May 1, 2015. New Jersey is revising the permits for these sources to include the modifications needed to meet the BART requirements.

In summary, New Jersey used the MANE-VU analysis which defined the reasonable progress goals, and reasonable measures. The reasonable measures analyses, considered the cost of compliance, the time necessary for compliance, the energy and non-air quality environmental impacts, and the remaining useful life of the existing sources subject to such requirements.

Using input from the MANE-VU consultations, the benefits from the implementation of the identified measures were modeled to project the 2018 visibility levels. These projections serve as the 2018 Reasonable Progress Goal. For the Brigantine Wilderness Area, the 2018 projection is 25.1 deciviews. This projection meets the Uniform Rate of Progress goal developed per EPA's RHR.

Accordingly, EPA proposes to approve New Jersey's RPG for the Brigantine Wilderness Area of the Edwin B. Forsythe National Wildlife Refuge, and proposes that New Jersey's emission reductions will provide its share of the reductions needed to achieve the RPG at Brigantine, as well as other Class I areas in the Northeast United States. Letters from states with Class I areas affected by New Jersey's emissions did not ask for any additional controls beyond those specified in the MANE-VU analyses.

5. Subchapter 9—Sulfur In Fuels

On September 20, 2010, New Jersey satisfied a commitment included in the Regional Haze SIP by adopting revisions to New Jersey Subchapter 9 which implements reductions in the sulfur content of fuel oil, which will aid in reducing sulfates that cause decreased visibility. This regulation will implement low sulfur fuel oil provisions that will reduce the amount of sulfur in fuel oils that are stored, offered for sale, sold, or exchanged in trade for use in New Jersey. On December 9, 2010, New Jersey submitted Subchapter 9 to EPA as a revision to its SIP. New Jersey completed all the administrative requirements for this rule, including a public hearing and response to comments.

The sulfur in fuel limits in New Jersey's rule are the same as the levels of control included in the MANE-VU analysis of reasonable controls for the haze SIP. MANE-VU included these controls in the modeling that showed that the Brigantine area would achieve the reasonable progress goals.

The regulation will reduce the sulfur content in all distillate heating oil (No. 2 and lighter) to 500 parts per million (ppm) by June 1, 2014 and to 15 ppm by July 1, 2016. New Jersey's rule also reduces the sulfur content for No. 4 fuel oil to 2,500 ppm and No. 5, No. 6, and heavier fuel oils to 5,000 ppm for Zones 1, 2, 3 and 5 and 3,000 ppm for Zones 4 and 6 by July 1, 2014. By removing the sulfur in the fuel oils, sulfur oxide emissions and particulate emissions will be reduced which will benefit both the Regional Haze SIP and the attainment of the PM 2.5 national ambient air quality standard. Subchapter 9 has been included in New Jersey's PM 2.5 SIP revision.

Subchapter 9 also contains maximum allowable sulfur dioxide emission limits, expressed in pounds per million BTU, for those sources that chose to control their emissions with control devices. The compliance dates for these limits are the same as for the fuel oil compliance dates. Subchapter 9 provides provisions for the optional use of an alternative emission control plan based on a mathematical combination that must first be approved by New Jersey. These provisions require that for each 24-hour period emissions will not exceed the quantity of sulfur dioxide expressed in pounds per million BTU gross heat input as set forth in Subchapter 9's Tables 2A and 2B. Additional requirements must be satisfied including performing an air quality modeling analysis to insure that the national ambient air quality standards will not be exceeded. These provisions are designed to insure that the use of optional alternative emission controls plans will result in same or greater emission reductions.

New Jersey completed all the administrative requirements for this rule, including a public hearing and addressed the public comments. Since New Jersey's sulfur in fuel rule meets the sulfur limits in the MANE-VU “ask,” and meets administrative requirements, EPA proposes to approve New Jersey's Subchapter 9, for use in both the Regional Haze SIP and the PM 2.5 SIP.

6. BART

BART is an element of New Jersey's LTS, as well as a requirement to evaluate controls for older sources that affect Class I areas. The BART regional haze requirement consists of three steps: (a) Identification of all the BART eligible sources; (b) an assessment of whether the BART eligible sources are subject to BART; and (c) the determination of the BART controls.

a. BART-Eligible Sources in New Jersey

The first component of a BART evaluation is to identify all the BART eligible sources. The sources in Table 5 were identified by New Jersey in its July 2009 Regional Haze SIP and met the following criteria to be classified as BART eligible:

• One or more emissions units at the facility are within one of the 26 categories listed in the BART Guidelines (70 FR 39158-39159);

• The emission unit(s) was in existence on August 7, 1977 and begun operation after August 6, 1962;

• Potential emissions of SO2, NOX, and PM10 from subject units are 250 tons or more per year.

These criteria are from section 169A(b)(2)(A) of the Act, codified in 40 CFR Part 51, Appendix Y.

Table 5—BART-Eligible Facilities Identified by the State of New Jersey
Source | Pollutants | Location (county) | Facility I.D.
PSEG—Hudson | NOX, SO2, PM | Hudson | 12202
Chevron | NOX, SO2, PM | Middlesex | 18058
Amerada Hess | NOX, SO2 | Middlesex | 17996
ConocoPhillips | NOX, PM, SO2 | Union | 41805
Sunoco Eagle Point | NOX, PM, SO2 | Gloucester | 55781

The BART Guidelines recommend addressing SO2, NOX, and PM10 as visibility-impairment pollutants. The Guidelines note that states can decide whether to evaluate VOC or ammonia emissions. New Jersey did not develop additional strategies for VOC or ammonia emissions in its SIP. EPA proposes to agree with New Jersey's determination because of the lack of tools available to estimate emissions and subsequently model VOC and ammonia effects on visibility, and because New Jersey is aggressively addressing VOCs through its approved ozone SIPs. In summary, EPA agrees with New Jersey's determination that SO2, NOX, PM10, and PM2.5 are the pollutants reasonably anticipated to contribute to visibility impairment to target under BART.

The second component of the BART evaluation is to identify those BART eligible sources that may reasonably be anticipated to cause or contribute to visibility impairment at any Class I area. As discussed in the BART guidelines, a state may choose to consider all BART eligible sources to be subject to BART (70 FR 39.161). The MANE-VU Board decided in June 2004 that because of the collective importance of BART sources, BART determinations should be made by the MANE-VU states for each BART eligible source. New Jersey followed this approach by identifying each of its BART eligible sources as subject to BART, (see Table 5 above), but found upon further review, that emissions from Amerada Hess and Sunoco Eagle Point made them ineligible for BART controls. In its March 2011 supplement to the RH SIP, New Jersey determined that for Amerada Hess and Sunoco Eagle Point, the permitted emissions for these BART-eligible facilities were less than the 250 tons per year threshold for each of the pollutants regulated under the Regional Haze regulations (see section 169A(g)(7) of the Act). Therefore, New Jersey concluded they were not eligible for BART controls.

b. Identification and Evaluation of Additional BART-Eligible Sources in New Jersey

During EPA's review of New Jersey's July 2009 and March 2011 Regional Haze SIP, EPA discovered that two other facilities within the State had units that were BART eligible. These two facilities were not originally identified by New Jersey as BART eligible because the facilities indicated to the state that they planned to shut down. Later the facilities withdrew their requests.

The first BART eligible source, Unit 10 at Vineland Municipal Electric Utility's Howard M. Down Station is under a Federal consent decree ¹³ to either install additional pollution control measures or to permanently shut down by September 1, 2012. On July 1, 2011, Vineland's Director submitted written certification to EPA and New Jersey that Unit 10 will be retired from service by September 1, 2012. Vineland is required to submit an application to modify its permit by July 30, 2011 and New Jersey will need to submit this element of the permit to EPA as a supplement to the RH SIP by November 2011. Another Vineland source is a distillate fuel oil-fired emergency generator that is considered BART, but EPA agrees that it does not need additional controls because its emissions are small and the unit has not operated for at least 10 years.

¹³ U.S. District Court in New Jersey, Civil Action 1:11-cv-1826(RMB-JS), see paragraph 14.

The second BART eligible facility is the BL England Generating Station owned by RC Cape May Holding. This facility has three electric generating units that are BART eligible—Units 1, 2 and 3—as well as three support units including a coal handling system that supports the two coal-fired boilers, Units 1 and 2; a natural draft cooling tower that supports the oil fired boiler, Unit 3; and an emergency fire water diesel engine. Units 1 and 2 are subject to an amended Administrative Consent Order (ACO) by New Jersey that requires the units either to repower by December 15, 2011 or meet performance standards by a date certain. Under the ACO, Unit 1 is to add SCR controls for NOX, a scrubber for SO2 controls and upgrade the electrostatic precipitator to meet the new performance standards by December 15, 2013. EPA considers that by December 2013, if Unit 1 modifies to meet performance standards, it will be implementing maximum control measures for limiting emissions of NOX, SO2 and PM, which meets EPA's BART requirements. Unit 2 is subject to an amended ACO with New Jersey to install selective catalytic reduction (SCR) by May 1, 2012 to reduce emissions of NOX. Unit 2 currently implements controls for limiting SO2 emissions with wet scrubbers and PM emissions with electrostatic precipitators (ESP). EPA considers that, if the Unit 2 implements these NOX controls by May 12, 2012, Unit 2 will be implementing maximum control measures for limiting emissions of NOX, SO2 and PM, and will meet EPA's BART requirements. Unit 3 combusts No. 6 Fuel Oil and primarily operates during the summer season on days when the demand for electricity is high. Since 2008, the annual operating capacity has averaged about 3% and has not been more than 32% since 1999. This unit implements SNCR controls for NOX and is required to comply with a NOX emission limit of 2.0 lb/MW-hr (equivalent to about 0.20 lb/MM BTU) by May 1, 2015. In addition, to control SO2 emission, this unit must combust fuel oil with a sulfur limit of 0.50% by July 1, 2014. EPA considers that, by May 15, 2015, Unit 3 will be implementing maximum controls for limiting emissions of NOX, SO2 and PM and will meet EPA's BART requirements. For the three remaining support systems (coal handling system, cooling tower, and the emergency diesel engine. EPA considers the existing operations to be BART. In addition, RC Cape May, has indicated it is evaluating the conversion of all three electric steam generating units to natural gas or No. 2 fuel oil. To the extent that RC Cape May decides to convert one or all of the units, New Jersey anticipates that RC Cape May would submit a specific proposal that addresses applicable requirements including BART. For additional details the reader is referred to the TSD.

c. BART Evaluations for Sources Identified as BART by New Jersey

The final component of a BART evaluation is making BART determinations for all BART subject sources. In making BART determinations, section 169A(g)(2) of the Act requires that states consider the following factors: (1) The costs of compliance; (2) the energy and non-air quality environmental impacts of compliance; (3) any existing pollution control technology in use at the source; (4) the remaining useful life of the source; and (5) the degree of improvement in visibility that may reasonably be anticipated to result from the use of such technology. However, a source that implements the maximum feasible level of control for its emissions has met the BART requirements, and no further analysis is needed. Conversely, a source that limits its emissions via an enforceable permit limit no longer needs to be subject to BART review.

NJDEP properly determined that Chevron Products, ConocoPhillips Bayway Refinery, and PSEG Hudson Generating Station are subject to BART review. Chevron Products is reducing its annual combustion limit to bring the facility's potential to emit NOX to less than 250 tons per year (tpy) by March 15, 2011, so no pollutants exceed the BART threshold and Chevron Products will not be subject to further BART analyses. The ConocoPhillips Bayway Refinery has NOX, SO2, and PM controls, emission limits, averaging times, and compliance dates in a Federally enforceable consent decree with New Jersey and EPA. Also, the consent decree requires all the BART-qualified process heaters at the Bayway facility to eliminate oil burning, and to only burn refinery fuel gas with hydrogen sulfide (H2S) content less than 162 ppmvd in compliance with NSPS subpart J. New Jersey expects full implementation by June 30, 2011. EPA proposes approval of these BART evaluations since they were based on maximum feasible controls or a multi-factor analysis.

PSEG Hudson Generating Station has two boilers serving electric generating units (E1 and E2) and two coal handling systems (E22 and E23) that are subject to BART review. One boiler is coal-fired (E2) and subject to controls and Federally enforceable emission limits effective December 31, 2010, due to a Federally enforceable consent decree. The other boiler (E1) primarily combusts natural gas but is also permitted to burn No. 6 fuel oil.

At PSEG, the coal receiving system (E22) and the coal reclaim system (E23) are support systems to coal-fired boiler E2 with the potential to emit particulate emissions only. The conveying systems are covered and the coal piles are controlled with a water dust suppression system. New Jersey determined that the new selective catalytic reduction (SCR) and existing low NOX burners (LNBs), new flue gas desulfurization (FGD), and new bag house air pollution control systems for oxides of nitrogen (NOX), sulfur dioxide (SO2) and particulate matter (PM), respectively, for coal-fired boiler E2, and the existing PM controls for the two coal handling systems, are BART. In addition PSEG has submitted an application to modify the Hudson operating permit to include the following more stringent NOX emission limits: 1.0 lb/MW-hr when burning natural gas and 2.0 lb/MW-hr when burning No. 6 fuel oil, with a compliance date of May 1, 2015, to coincide with the requirements of the revised NOX rule at N.J.A.C. 7:27-19.4 Table 3 for E1; and to only burn No. 6 fuel oil, already restricted to 0.3% sulfur by weight, in this boiler when natural gas is curtailed, effective upon approval of the permit modification but no later than December 31, 2011.

New Jersey's BART requirements must be included as operating permit conditions in accordance with 40 CFR part 70, and the State regulations promulgated at N.J.A.C. 7:27-22. Chevron, PSEG Hudson, and ConocoPhillips have submitted timely permit modification applications to incorporate the BART requirements. New Jersey has approved the permit modifications for Chevron and PSEG Hudson and has proposed the permit modifications for ConocoPhillips. When all permit modifications are completed, New Jersey will submit all of the BART determinations and associated documents and permits to EPA as source-specific SIP revisions.

EPA has reviewed New Jersey's BART determinations for all of the BART eligible sources, including all supporting documentation, information and proposed permit modifications. New Jersey has requested public comment on the proposed permit modifications, which identify the required BART controls, and the comment periods have closed. New Jersey is in the process of addressing any comments received and issuing the permit modifications in final form. EPA proposes to approve New Jersey's BART determinations, including the source-specific permit modifications as proposed by New Jersey.

This proposed approval is being proposed under a procedure called parallel processing, whereby EPA proposes rulemaking action concurrently with the state's procedures for amending its regulations or in this instance amending source specific operating permits. If the proposed operating permit revisions are substantially changed in areas other than those identified in this document, EPA will evaluate those changes and may publish another notice of proposed rulemaking. If no substantial changes are made other than those areas cited in this document, EPA will publish a final rulemaking on the revisions. The final rulemaking action by EPA will occur only after the SIP revision has been adopted by New Jersey and submitted formally to EPA for incorporation into the SIP.

EPA proposes to approve New Jersey's BART requirements based on the BART determinations discussed above and the respective BART limitations on emissions, source operation and fuel use. New Jersey's BART determinations contain the appropriate regulatory requirements related to monitoring, recordkeeping, and reporting for the BART controls on the sources. Lastly, New Jersey's BART determinations require BART controls be installed and in operation as expeditiously as practicable, but no later than five years after the date of EPA approval of the Regional Haze SIP, as required in the CAA and in the RHR.

C. Consultation With States and Federal Land Managers

On May 10, 2006, the MANE-VU State Air Directors adopted the Inter-RPO State/Tribal and FLM Consultation Framework that documented the consultation process within the context of regional haze planning, intended to create greater certainty and understanding among RPOs. MANE-VU States held ten consultation meetings and/or conference calls from March 1, 2007 through March 21, 2008. In addition to MANE-VU members attending these meetings and conference calls, participants from VISTAS, Midwest RPO, and the relevant Federal Land Managers also attended. In addition to the conference calls and meeting, the FLMs were given the opportunity to review and comment on each of the technical documents developed by MANE-VU. No additional measures beyond those developed as part of the MANE-VU “ask” were recommended by other states or the FLMs.

New Jersey consulted with the FLMs at a meeting that EPA Region 2 attended on October 20, 2009 during the development of the Regional Haze SIP. New Jersey submitted the draft plan for review by the FLMs for the required ninety-day review period before New Jersey submitted the Regional Haze SIP to EPA and responded to their comments in their response to comments document in Appendix O-3 in the Haze SIP. These actions fulfill EPA's requirements in 40 CFR 51.308(i).

A public hearing on this proposed SIP revision was held on October 27, 2008 at the New Jersey Department of Environmental Protection Public Hearing Room, Trenton, New Jersey. Written comments relevant to the proposal were accepted through November 28, 2008. The only comments were submitted by USEPA, the Fish and Wildlife Service and one of the potential BART sources. New Jersey responded to the comments, as listed in Appendix O-3 of New Jersey's Regional Haze Plan. New Jersey commits in its SIP to ongoing consultation with the FLMs on regional haze issues throughout the implementation of the Regional Haze SIP as required in 40 CFR 51.308(i)(4).

D. Periodic SIP Revisions and Five-Year Progress Reports

New Jersey commits to revise and submit a regional haze implementation plan by July 31, 2018 to address the next ten years of progress toward the national goal in the Act of eliminating manmade haze by 2064, and to submit a plan every ten years thereafter, in accordance with the requirements listed in 40 CFR 51.308(f) of the Federal rule for regional haze. To meet this commitment, New Jersey expects to rely on the collaborative regional organization efforts such as MANE-VU. New Jersey commits to address the following in its Mid-Course Review report: Address any uncertainties encountered during regional haze planning process; report on the progress of the BART analysis, determinations, and implementation; report on the progress of the Low Sulfur Fuel Strategy; report on whether additional potential actions identified in its plan will be implemented and the status of those efforts. The reasonable progress report will evaluate the progress made towards the RPGs for the Brigantine National Wildlife Refuge Class I area, located in New Jersey.

E. Coordinating Regional Haze and Reasonably Attributable Visibility Impairment (RAVI) LTS

In its Regional Haze Plan, New Jersey committed to review the impact of proposed sources on visibility under 40 CFR 52.26 and 52.28, by implementing the Prevention of Significant Deterioration (PSD) permit requirements for new or modified major sources of air pollutants located within 100 kilometers of the Class I area, or within a larger radius on a case-by-case basis, in accordance with all applicable Federal rules for review of the impacts on Class I areas. New Jersey's PSD program prevents new and modified sources from significantly impacting visibility. The PSD program includes a requirement that evaluates the new source's visibility impact on any nearby Class I areas (Brigantine in New Jersey's case).

On June 27, 2011, as part of its acceptance of the PSD delegation from EPA, New Jersey reaffirmed its commitment to notify the Federal Land Manager of new sources that may impact the Class I area, in accordance with 40 CFR 52.21(p).

F. Monitoring Strategy and Other Implementation Plan Requirements

The primary monitoring network for regional haze in New Jersey is the Interagency Monitoring of Protected Visual Environment (IMPROVE) network. There is currently one IMPROVE site in New Jersey, in the Brigantine Wilderness Area of the Edwin B. Forsythe National Wildlife Refuge. IMPROVE monitoring data from 2000-2004 serves as the baseline for the regional haze program, and is relied upon in the July 28, 2009 regional haze submittal. Data produced by the IMPROVE monitoring network are essential for the verification of the effects of changes in emissions on visibility in Class I areas and will be needed for preparing the 5-year progress reports and the 10-year SIP revisions, each of which relies on analysis of the preceding five years of data. In addition, New Jersey operates a comprehensive PM2.5 network of filter-based Federal reference method monitors, continuous mass monitors, filter based speciated monitors and the continuous speciated monitors.

New Jersey will continue to operate and maintain the monitoring site at the Brigantine Wilderness Area. EPA will continue its discussions with New Jersey during the course of periodic network reviews on the location of the monitors and the number of monitors in its monitoring network.

New Jersey committed to continuing to submit periodic emission inventories, a mid-course review and a revised plan for the next ten-year period starting in 2018.

V. What action is EPA proposing to take?

EPA is proposing to approve a revision to New Jersey's State Implementation Plan submitted on July 28, 2009, that addressed progress toward reducing regional haze for the first implementation period ending in 2018. The submittal was augmented by submittals on December 9, 2010 with New Jersey's adopted regulation lowering the sulfur content in fuel and on March 2, 2011 which included BART determinations and controls. EPA is proposing to determine that New Jersey's Regional Haze SIP contains the emission reductions needed to achieve New Jersey's share of emission reductions that were determined to be reasonable through the regional planning process. Furthermore, New Jersey's Regional Haze Plan ensures that emissions from the State will not interfere with the reasonable progress goals for neighboring States' Class I areas. Thus, EPA is proposing that the Regional Haze Plan submitted by New Jersey satisfies the requirements of the CAA. EPA is taking this action pursuant to those provisions of the Act. EPA is soliciting public comments on the issues discussed in this document and will consider these comments before taking final action.

In addition, EPA is proposing to approve New Jersey's Subchapter 9, Sulfur in Fuel rule, which is one of the measures needed to fulfill New Jersey's Reasonable Progress Plan.

This proposed approval is being proposed under a procedure called parallel processing, whereby EPA proposes rulemaking action concurrently with the state's procedures for amending its regulations or in this instance amending source specific operating permits to incorporate BART. If the proposed operating permit revisions are substantially changed in areas other than those identified in this action, EPA will evaluate those changes and may publish another notice of proposed rulemaking. If no substantial changes are made other than those areas cited in this action, EPA will publish a final rulemaking on the revisions. The final rulemaking action by EPA will occur only after the SIP revision has been adopted by New Jersey and submitted formally to EPA for incorporation into the SIP.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule approving New Jersey's Regional Haze Plan does not have tribal implications as specified by Executive Order 13175 (65 FR 67249, November 9, 2000), because the SIP does not apply to Indian country located in the state, and EPA notes that it will not impose substantial direct costs on tribal governments or preempt tribal law.

List of Subjects in 40 CFR Part 52

Environmental protection, Air pollution control, Nitrogen dioxide, Particulate matter, Reporting and recordkeeping requirements, Sulfur oxides, Volatile organic compounds.

Authority: 42 U.S.C. 7401 et seq.

Dated: August 2, 2011.
Judith A. Enck,
Regional Administrator, Region 2.

[FR Doc. 2011-20482 Filed 8-10-11; 8:45 am]

BILLING CODE 6560-50-P